DEPARTMENT OF TRANSPORTATION

Federal Aviation Administration

[Docket No. FAA-2022-1172]

Agency Information Collection Activities: Requests for Comments; Clearance of a Renewed Approval of Information Collection: FAA Acquisition Management System (FAAAMS)

AGENCY: Federal Aviation Administration (FAA), DOT.

ACTION: Notice and request for comments.

SUMMARY: In accordance with the Paperwork Reduction Act of 1995, FAA invites public comments about FAA's intention to request Office of Management and Budget (OMB) approval to renew an information collection. The collection involves the FAA Acquisition Management System (FAAAMS) and information collected in response to notices regarding FAA acquisitions. The information to be collected is necessary to solicit, award, and administer contracts for supplies, equipment, services, facilities, and real property to fulfill FAA's mission.

DATES: Written comments should be submitted by October 31, 2022.

ADDRESSES: Please send written comments:

By Electronic Docket: www.regulations.gov (Enter docket number into search field).

By mail: Monica Rheinhardt, Federal Aviation Administration (AAP-110), 800 Independence Ave. SW, FOB-10A, Room 439, Washington, DC 20591.

FOR FURTHER INFORMATION CONTACT: Monica Rheinhardt, by email at: monica.rheinhardt@faa.gov, phone: 202-267-1441.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0595.

Title: FAA Acquisition Management System (FAAAMS).

FAA FAST Home Page: https://fast.faa.gov/.

Type of Review: Renewal of an information collection.

Background: The FAAAMS establishes policies and internal procedures for FAA acquisition. Section 348 of Public Law 104-50 directed FAA to establish an acquisition system. The information collection is carried out as an integral part of FAA's acquisition process. Various portions of the AMS describe information needed from vendors seeking or already doing business with FAA. FAA's contracting offices collect the information to plan, solicit, award, administer and close individual contracts. FAA's small business office collects information to promote and increase small business participation in FAA contracts. AMS requires information collection through a series of forms in the areas of (1) Solicitations and (2) Post-Award Contract Administration.

Solicitations: The FAA utilizes solicitations to evaluate vendor-specific technical solutions, capabilities, and other qualifications such as subcontracting plans that may result in the award of a contract for a defined FAA need. The extent and nature of the information required from vendors varies depending on the nature of the goods and/or services procured, as well as the size and complexity of the FAA requirements.

Post-Award Contract Administration: Depending on the complexity and size of the contract, various activities are ongoing after contract award in areas such as bonds (e.g., construction contracts), small business subcontracting (e.g., applying to large businesses), the tracking and management of Government Property, and invoicing. Contract modifications vary from routine administrative updates to major additions of work.

Solicitations

Respondents: 3,461.

Frequency: 1 time.

Estimated Average Burden per Response: 3 hours.

Estimated Total Annual Burden: 10,383 hours.

Post-Award Contract Administration

Respondents: 10,177.

Frequency: 3 times.

Estimated Average Burden per Response: 23.

Estimated Total Annual Burden: 702,213 hours.

Issued in Washington, DC, on August 29, 2022.
Michelle G. Brune,
AAP-100 Division Manager.

[FR Doc. 2022-18926 Filed 8-31-22; 8:45 am]

BILLING CODE 4910-13-P